DEPARTMENT OF HOMELAND SECURITY

Coast Guard

[USCG-2010-0453]

National Offshore Safety Advisory Committee

AGENCY: Coast Guard, DHS.

ACTION: Notice of open teleconference meeting.

SUMMARY: This notice announces a teleconference meeting of the National Offshore Safety Advisory Committee (NOSAC) to discuss items listed in the agenda as well as other items that NOSAC may consider. This meeting will be open to the public.

DATES: The teleconference meeting will take place on Thursday, July 1, 2010, from 11 a.m. to 1:30 p.m. EST. This meeting may close early if all business is finished. Written material and requests to make oral presentations should reach the Coast Guard on or before June 17, 2010. Requests to have a copy of your material distributed to each member of the committee should reach the Coast Guard on or before June 17, 2010.

ADDRESSES: The Committee will meet, via telephone conference, on July 1, 2010. Public participation is welcome and members of the public wishing to participate may contact Commander P.W. Clark at 202-372-1410 for call-in information, or they may participate in person by coming to Room 5-1224, U.S. Coast Guard Headquarters Building, 2100 Second Street, SW., Washington, DC 20593. As there are a limited number of teleconference lines, public participation will be on a first come basis. Written comments should be sent to Commander P.W. Clark, Designated Federal Officer of NOSAC, Commandant (CG-5222), 2100 Second Street, SW., Stop 7126, Washington, DC 20593-0001; or by fax to 202-372 1926, at least 10 days prior to the meeting. This notice is available in our online docket, USCG-2010-0453, at http://www.regulations.gov.

FOR FURTHER INFORMATION CONTACT: Commander P.W. Clark, Designated Federal Officer of NOSAC, or Mr. Kevin Pekarek, Assistant Designated Federal Officer, telephone 202-372-1386, fax 202-372-1926.

SUPPLEMENTARY INFORMATION: Notice of this meeting is given under the Federal Advisory Committee Act, 5 U.S.C. App. 2.

Agenda of Meeting

The agenda for the July 1, 2010 Committee meeting is as follows:

(1) Roll call of Committee members and the public participating in the teleconference.

(2) Approval of minutes from the April 8, 2010, meeting.

(3) Consideration and possible action on a subcommittee's Final Report containing recommendations concerning Dynamic Positioning (DP) Systems.

(4) Consideration and possible action on a proposed Task Statement and formation of a subcommittee to study the matter of Electrical Hazards in Explosive Atmospheres.

(5) An update on safe lifting initiatives.

(6) Period for Public Comment.

(7) Confirmation of the date/time for the next NOSAC Meeting (Tuesday, November 9, 2010 in Houston, TX).

Procedural

This meeting is open to the public. Please note that the meeting may close early if all business is finished. At the Chair's discretion, members of the public may make oral presentations during the meeting. If you would like to make an oral presentation during the teleconference, please notify the DFO no later than June 17, 2010. Written material for distribution to Committee members should reach the Coast Guard no later than June 17, 2010.

Minutes

Minutes from the meeting will be available for the public review and copying 30 days following the teleconference meeting.

Information on Services for Individuals With Disabilities

For information on facilities or services for individuals with disabilities or to request special assistance at the meeting, contact Mr. Kevin Pekarek at 202-372-1386 as soon as possible.

Dated: May 25, 2010.
F.J. Sturm,
Acting Director of Commercial Regulations and Standards.

[FR Doc. 2010-13117 Filed 6-1-10; 8:45 am]

BILLING CODE 9110-04-P